DEPARTMENT OF TRANSPORTATION

Pipeline and Hazardous Materials Safety Administration

International Standards on the Transport of Dangerous Goods; Public Meeting

AGENCY: Pipeline and Hazardous Materials Safety Administration (PHMSA), Department of Transportation.

ACTION: Notice of public meeting.

SUMMARY: This notice is to advise interested persons that PHMSA will conduct a public meeting in preparation for the twenty-first meeting of the International Civil Aviation Organization's (ICAO) Dangerous Goods Panel (DGP) to be held November 5-16, 2007 in Montreal, Canada.

DATES: Wednesday, October 24, 2007, 1:30 p.m.-5 p.m.

ADDRESSES: The meeting will be held at the new DOT Headquarters, West Building, Oklahoma City Conference Room, 1200 New Jersey Avenue, SE., Washington, DC 20590.

FOR FURTHER INFORMATION CONTACT: Mr. Duane Pfund, Director, Office of International Standards, Office of Hazardous Materials Safety, Department of Transportation, Washington, DC 20590; (202) 366-0656.

SUPPLEMENTARY INFORMATION: The primary purpose of this public meeting will be to discuss draft U.S. positions on the proposals that will be considered during the 21st Meeting of the ICAO DGP. Agenda items include:

Agenda Item 1: Development of proposals, if necessary, for amendments to Annex 18—Safe Transport of Dangerous Goods by Air.

Agenda Item 2: Development of recommendations for amendments to the Technical Instructions for the Safe Transport of Dangerous Goods by Air (Doc 9284) for incorporation in the 2009-2010 Edition.

Agenda Item 3: Development of recommendations or amendments to the Supplement to the Technical Instructions for the Safe Transport of Dangerous Goods by Air (Doc 9284) for incorporation in the 2009-2010 Edition.

Agenda Item 4: Amendments to the Emergency Response Guidance for Aircraft Incidents involving Dangerous Goods (Doc 9481) for incorporation in the 2009-2010 Edition.

Agenda Item 5: Resolution, where possible, of the non-recurrent work items identified by the Air Navigation Commission or the panel.

5.1: Principles governing the transport of dangerous goods on cargo only aircraft.

5.2: Reformatting of the packing instructions.

5.3: Review of provisions for dangerous goods carried by passengers and crew.

5.4: Review of provisions for dangerous goods relating to lithium batteries.

5.5: Review of amendment process for the Technical Instructions for the Safe Transport of Dangerous Goods by Air (Doc 9284).

In addition, we are soliciting comments on PHMSA's international agenda as it relates to PHMSA's work with the ICAO DGP. In particular, input is requested on any air-mode specific harmonization issues regarding the requirements of the ICAO Technical Instructions (ICAO TI) and the U.S. Hazardous Materials Regulations (U.S. HMR). Discussion topics include but are not limited to:

—How can PHMSA more closely align the limited quantity and consumer commodity provisions within the U.S. HMR and the ICAO TI?

—What efforts should be undertaken to address differences between the U.S. HMR and the ICAO TI related to packaging requirements and inner packaging quantity limits;

—What specific operational requirements differ between the U.S. HMR and the ICAO TI and how should those differences be addressed?

—PHMSA is interested in partnering with the regulated industry to identify a comprehensive list of differences between the U.S. HMR and the ICAO TI, and determine the most appropriate manner in which to address these differences.

—What aspects of the U.S. HMR could be better aligned with the ICAO TI, and conversely, are there any provisions within the U.S. HMR that could be considered by the ICAO DGP for inclusion in the ICAO TI?

—PHMSA is soliciting input relative to the use of the U.S. HMR or ICAO TI (as an alternative to the U.S. HMR) for domestic air transportation and the necessity for specific U.S. HMR exceptions applicable only to domestic air transport.

For more information on the ICAO DGP and to check for updates on information related to this public meeting visit PHMSA's International Standards Web site at http://hazmat.dot.gov/regs/intl/intstandards.htm. To download papers which will be considered by the Panel visit the DGP Web site at http://www.icao.int/anb/FLS/DangerousGoods/flsdg.cfm.

Robert A. Richard,
Deputy Associate Administrator for Hazardous Materials Safety.

[FR Doc. 07-4426 Filed 9-10-07; 8:45 am]

BILLING CODE 4910-60—M